POSTAL REGULATORY COMMISSION

[Docket No. CP2013-13; Order No. 1900]

New Postal Product

AGENCY: Postal Regulatory Commission.

ACTION: Notice.

SUMMARY: The Commission is noticing a recent Postal Service filing requesting an amendment to Parcel Select Contract 6. This notice informs the public of filings, invites public comment, and takes other administrative steps.

DATES: Comments are due: December 18, 2013.

ADDRESSES: Submit comments electronically via the Commission's Filing Online system http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Ordering Paragraphs

I. Introduction

On December 9, 2013, the Postal Service filed notice that it has agreed to an amendment to the existing Parcel Select Contract 6 subject to this docket.¹

¹ Notice of United States Postal Service of Amendment to Parcel Select Contract 6, With Portions Filed Under Seal, December 9, 2013 (Notice).

The Postal Service includes on attachment in support of its Notice:

• Attachment A—a redacted copy of the amendment to the existing Parcel Select Contract 6.

The Postal Service also filed the unredacted amendment under seal. It asserts that the “supporting financial documentation and financial certification initially provided in this docket remain applicable.” Id. at 1. It also contends that the amendment “will not materially affect the cost coverage” of the product. Id. The Postal Service seeks to incorporate by reference the Application for Non-Public Treatment originally filed in this docket for the protection of customer-identifying information that it has filed under seal. Id.

The amendment modifies both the mythology for pricing applicable to the second year of the contract and the annual price adjustment provision used to calculate prices for the third year of the contract. Id. Attachment A at 1. In addition, the amendment alters the date on which the Postal Service must provide an updated price chart to the customer. Id.

II. Notice of Filings

Interested persons may submit comments on whether the changes presented in the Postal Service's Notice are consistent with the policies of 39 U.S.C. 3632, 3633, or 3642, 39 CFR 3015.5, and 39 CFR part 3020, subpart B. Comments are due no later than December 18, 2013. The public portions of these filings can be accessed via the Commission's Web site (http://www.prc.gov).

James F. Callow, previously designated to serve as Public Representative in this proceeding, will continue in that capacity.²

² Order No. 1521, Notice and Order Concerning the Addition of Parcel Select Contract 6 to the Competitive Product List, October 26, 2012.

III. Ordering Paragraphs

It is ordered:

1. The Commission reopens Docket No. CP2013-13 for consideration of matters raised by the Postal Service's Notice.

2. James F. Callow, previously designated to serve as an officer of the Commission (Public Representative) to represent the interests of the general public in this proceeding, will continue in that capacity.

3. Comments are due no later than December 18, 2013.

The Secretary shall arrange for publication of this order in the Federal Register.

By the Commission.
Shoshana M. Grove,
Secretary.

[FR Doc. 2013-29973 Filed 12-16-13; 8:45 am]

BILLING CODE 7710-FW-P